DEPARTMENT OF HEALTH AND HUMAN SERVICES

Centers for Disease Control and Prevention (CDC)

National Institute for Occupational Safety and Health (NIOSH) Advisory Board on Radiation and Worker Health (ABRWH or Advisory Board)

In accordance with section 10(a)(2) of the Federal Advisory Committee Act (Pub. L. 92-463), the Centers for Disease Control and Prevention announces the following committee meetings:

Available working group time and date:

9 a.m.-11 a.m., December 11, 2006

Subcommittee meeting time and date:

11 a.m.-12 p.m., December 11, 2006.

Committee meeting times and dates:

1 p.m.-4:45 p.m., December 11, 2006.

8:30 a.m.-5 p.m., December 12, 2006.

8:30 a.m.-5 p.m., December 13, 2006.

Public comment times and dates:

5 p.m.-6 p.m., December 11, 2006.

7:30 p.m.-8:30 p.m., December 12, 2006.

Place: Holiday Inn Select, 1801 N. Naper Blvd, Naperville, Illinois 60563. Phone 630.505.4900, Fax 630.505.1984.

Status: Open to the public, limited only by the space available. The meeting space accommodates approximately 75 to 100 people.

Background: The Advisory Board was established under the Energy Employees Occupational Illness Compensation Program Act of 2000 to advise the President on a variety of policy and technical functions required to implement and effectively manage the new compensation program. Key functions of the Advisory Board include providing advice on the development of probability of causation guidelines which have been promulgated by the Department of Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC).

In December 2000, the President delegated responsibility for funding, staffing, and operating the Advisory Board to HHS, which subsequently delegated this authority to the CDC. NIOSH implements this responsibility for CDC. The charter was issued on August 3, 2001, renewed at appropriate intervals, and will expire on August 3, 2007.

Purpose: This Advisory Board is charged with (a) providing advice to the Secretary, HHS, on the development of guidelines under Executive Order 13179; (b) providing advice to the Secretary, HHS, on the scientific validity and quality of dose reconstruction efforts performed for this program; and (c) upon request by the Secretary, HHS, advise the Secretary on whether there is a class of employees at any Department of Energy facility who were exposed to radiation but for whom it is not feasible to estimate their radiation dose, and on whether there is reasonable likelihood that such radiation doses may have endangered the health of members of this class.

Matters to be discussed: The agenda for the Subcommittee meeting includes Individual Dose Reconstruction Reviews; the Selection of the 7th Round of Individual Dose Reconstructions; and Future Plans and Schedules. The agenda for the Advisory Board meeting includes SEC Petitions for Blockson Chemical, Monsanto, General Atomics, Allied Chemical, Harshaw, and Dow Chemical; Update on the Chapman Valve SEC Petition; Board Administrative Issues; Working Group Reports; Subcommittee Reports; NIOSH (Office of Compensation Analysis and Support) and Department of Labor Updates; Discussion of a Procedure for Assuring Board's Precise Wording of SEC Recommendations; Upcoming SEC Petitions; Update on Science Issues; Selection of Additional Procedures to be Reviewed by S. Cohen and Associates; Discussion of Overarching Issues Identified Through Dose Reconstruction, Site Profiles, and SEC Reviews; Board/Working Group Tracking Mechanisms; and Board Future Plans and Schedules.

The agenda is subject to change as priorities dictate. In the event an individual cannot attend, written comments may be submitted. Any written comments received will be provided at the meeting and should be submitted to the contact person below well in advance of the meeting.

Due to programmatic matters, this Federal Register Notice is being published on less than 15 calendar days notice to the public (41 CFR 102-3.150(b)).

Contact person for more information: Dr. Lewis V. Wade, Executive Secretary, NIOSH, CDC, 4676 Columbia Parkway, Cincinnati, Ohio 45226, Telephone 513.533.6825, Fax 513.533.6826.

The Director, Management Analysis and Services Office, has been delegated the authority to sign Federal Register notices pertaining to announcements of meetings and other Committee management activities, for both CDC and the Agency for Toxic Substances and Disease Registry.

Dated: November 17, 2006.
Alvin Hall,
Director, Management Analysis and Services Office, Centers for Disease Control and Prevention.

[FR Doc. E6-20000 Filed 11-24-06; 8:45 am]

BILLING CODE 4163-18-P